LEGAL SERVICES CORPORATION

Notice of Availability of Calendar Year 2024 Competitive Grant Funds for the Technology Initiative Grant Program

AGENCY: Legal Services Corporation.

ACTION: Notice.

SUMMARY: The Legal Services Corporation (LSC) issues this Notice describing the conditions for submitting a pre-application for 2024 Technology Initiative Grants (TIGs), and for applying under TIG categories that do not require pre-applications.

DATES:

General: The deadline to submit a Pre-Application is Monday, March 11, 2024, at 11:59 p.m. ET. The deadline to submit full applications is June 3, 2024, at 11:59 p.m. ET.

Technology Improvement Projects: The deadline to submit full applications is May 19, 2024, at 11:59 p.m. ET.

Adoption, Expansion, and Enhancement: The deadline to submit full applications is June 3, 2024, at 11:59 p.m. ET.

ADDRESSES: Pre-Applications and full applications must be submitted electronically via LSC's unified grants management system, GrantEase.

FOR FURTHER INFORMATION CONTACT: Glenn Rawdon, Senior Program Counsel for Technology, Office of Program Performance, Legal Services Corporation, 3333 K Street NW, Washington, DC 20007; (202) 295-1552 or grawdon@lsc.gov.

SUPPLEMENTARY INFORMATION:

I. Introduction

Since 2000, Congress has provided an annual appropriation to LSC to award special funding for client self-help and information technology projects. LSC's TIG program funds technology tools that help achieve LSC's goal of increasing the quantity and quality of legal services available to eligible persons. Projects funded under the TIG program develop, test, and replicate innovative technologies that can enable grant recipients and state justice communities to improve low-income persons' access to high-quality legal assistance through an integrated and well-managed technology system. The TIG program also supports effective technology planning and management at LSC-funded organizations through the use of targeted assessment grants focused on improvements to technology systems and information security.

II. Funding Opportunity Information

A. Eligible Applicants

To be eligible for Technology Initiative Grants, applicants must be current grantees of LSC Basic Field-General, Basic Field-Migrant, or Basic Field-Native American grants. In addition, applicants must receive basic field funding of at least a one-year term, be up to date on reporting on any existing TIG-funded projects, and not have had a previous TIG terminated in the past three years for reporting or other performance issues.

B. Technology Initiative Grant Purpose and Key Goals

Since LSC's TIG program was established in 2000, LSC has made over 859 grants totaling over $81 million. This grant program encourages organizations to use technology in innovative ways to:

1. Effectively and efficiently provide high-quality legal assistance to low-income persons and to promote access to the judicial system through legal information, advice, and representation.

2. Improve service delivery, quality of legal work, and management and administration of grantees.

3. Develop, test, and replicate innovative strategies that can enable grantees and state justice communities to improve clients' access to high-quality legal assistance.

C. Funding Categories

1. General Technology Initiative Grants

Projects in this category (1) implement new or innovative approaches for using technology in legal services delivery; (2) enhance the effectiveness and efficiency of existing technologies so that they may be better used to increase the quality and quantity of services to clients; or (3) replicate, adapt, or provide added value to the work of prior technology projects. This includes, but is not limited to, the implementation and improvement of tested methodologies and technologies from previous TIG projects. We also encourage replication of proven technologies from non-LSC funded legal aid organizations as well as sectors outside the legal aid community. Applicants seeking continuation funding for their own existing TIG initiatives may wish to apply under the Adoption, Expansion and Enhancement Grants category discussed below.

LSC recommends a minimum amount for funding requests in this category of $40,000, but projects with lower budgets will be considered. There is no maximum amount for TIG funding requests that are within the total appropriation for TIG. All applicants in this category must submit a pre-application according to the process and requirements outlined in this notice.

2. Technology Improvement Projects

LSC recognizes that grantees need sufficient technology infrastructure in place before they can take on a more innovative TIG project, and this grant category is for applicants that need to improve their basic technology infrastructure or their information security posture. The maximum funding amount for this category is $35,000. Technology Improvement Projects do not require a pre-application.

3. Adoption, Expansion, and Enhancement Grants

In 2023, LSC piloted a new category, called Adoption, Expansion, and Enhancement Grants, to provide continuation funding for those TIG projects that have moved beyond the proof-of-concept phase and demonstrated excellent results. This category is continuing in 2024. This funding allows successful TIG grantees to further build upon a specific project and its technologies, ensure that their TIG-funded work is effectively integrated into the service delivery system, and complete the project activities necessary to ensure the initiative's long-term success.

Adoption, Expansion, and Enhancement Grants are available to current TIG recipients and to recipients of recently completed TIG projects. Applicants seeking to enhance a non-TIG initiative or replicate another organization's project should apply under the General category. There is no pre-application for these proposals, but LSC encourages all prospective applicants to meet with their regional TIG program manager to discuss whether an Adoption, Expansion, and Enhancement grant may be a good fit. Applicants should be able to clearly demonstrate that their project was successful and that they have a reasonable plan for building on that success.

LSC recommends a minimum amount for funding requests in this category of $40,000, but projects with lower budgets will be considered. There is no maximum amount for TIG funding requests that are within the total appropriation for TIG. Adoption, Expansion, and Enhancement Grants do not require a pre-application.

D. Available Funds for 2024 Grants

A total of $5 million is available for 2024 TIG awards. LSC will not designate fixed or estimated amounts for the three different funding categories and will make grant awards for the three categories within the total amount of funding available.

E. Grant Terms

Applicants to the TIG program may propose grant terms between 12 and 36 months for general category projects and between 12 and 18 months for Technology Improvement Projects. For the new Adoption, Expansion, and Enhancement category, the grant term is set at 24 months. The grant term for all TIGs is expected to commence on November 1, 2024.

III. Grant Application Process

A. Technology Initiative Grant Application Process

The TIG application process will be administered in LSC's unified grants management system, GrantEase. Applicants in the General TIG category must first submit a pre-application to LSC in GrantEase by March 11, 2024, at 11:59 p.m. ET, to be considered for a grant. After review by LSC staff, LSC's president decides which applicants will be asked to submit a full application. Applicants will be notified of approval to submit a full application by late April 2024. Full applications are due to LSC in the GrantEase system on June 3, 2024, at 11:59 p.m. ET. Once received, full applications will undergo a rigorous review by LSC staff. LSC's president makes the final decisions on funding for the Technology Initiative Grant program.

As noted above, applicants applying for Technology Improvement Project funding or in the Adoption, Expansion, and Enhancement category are not required to submit pre-applications. LSC will launch the online application system for Technology Improvement Projects by April 1, 2024, and set a submission deadline of May 19, 2024, at 11:59 p.m. ET. LSC will launch the online application system for Adoption, Expansion, and Enhancement grants in late April 2024 and applications will be due to LSC in GrantEase on June 3, 2024, at 11:59 p.m. ET. LSC follows a similar review process for applications in these categories, which includes LSC staff conducting a rigorous review of all proposals and the LSC president making final funding decisions.

B. Late or Incomplete Applications

LSC may consider a request to submit a pre-application after the deadline, but only if the applicant has submitted an email to techgrants@lsc.gov explaining the circumstances that caused the delay prior to the pre-application deadline. Communication with LSC staff, including assigned program liaisons, is not a substitute for sending a formal request and explanation to techgrants@lsc.gov. At its discretion, LSC may consider incomplete applications. LSC will determine whether it will consider late or incomplete applications on a case-by-case basis.

C. Multiple Pre-Applications

Applicants may submit multiple pre-applications. If applying for multiple grants that require pre-applications, applicants should submit separate pre-applications for each funding request.

D. Additional Information and Guidelines

Additional guidance and instructions on the pre-application and application processes for Technology Initiative Grants will be available and regularly updated at https://www.lsc.gov/grants/technology-initiative-grant-program.

(Authority: 42 U.S.C. 2996g(e).)

Dated: January 17, 2024.
Stefanie Davis,
Deputy General Counsel, Legal Services Corporation.

[FR Doc. 2024-01205 Filed 1-22-24; 8:45 am]

BILLING CODE 7050-01-P